CONSUMER PRODUCT SAFETY COMMISSION

[Docket No. CPSC-2010-0054]

Agency Information Collection Activities; Submission for OMB Review; Comment Request; Procedures for Export of Noncomplying Products

AGENCY: Consumer Product Safety Commission.

ACTION: Notice.

SUMMARY: As required by the Paperwork Reduction Act of 1995, the Consumer Product Safety Commission (CPSC or Commission) announces that the Commission has submitted to the Office of Management and Budget (OMB) a request for extension of approval of a collection of information relating to the procedures for the export of noncomplying products. OMB previously approved the collection of information under control number 3041-0003. OMB's most recent extension of approval will expire on October 31, 2020. On July 23, 2020, CPSC published a notice in the Federal Register to announce the agency's intention to seek extension of approval of the collection of information. The Commission received no substantive comments. Therefore, by publication of this notice, the Commission announces that CPSC has submitted to the OMB a request for extension of approval of this collection of information, without change.

DATES: Submit written or electronic comments on the collection of information by November 2, 2020.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2010-0054.

FOR FURTHER INFORMATION CONTACT: Cynthia Gillham, Consumer Product Safety Commission, 4330 East West Highway, Bethesda, MD 20814; (301) 504-7791, or by email to: cgillham@cpsc.gov.

SUPPLEMENTARY INFORMATION: On July 23, 2020, the CPSC published a notice in the Federal Register to announce the agency's intention to seek extension of approval of the collection of information. (85 FR 44527). The Commission received no substantive comments. Accordingly, CPSC seeks to renew the following currently approved collection of information:

Title: Procedures for the Export of Noncomplying Products.

OMB Number: 3041-0003.

Type of Review: Renewal of collection.

Frequency of Response: On occasion..

Affected Public: Exporters of products that do not comply with Commission requirements

Estimated Number of Respondents: 7 exporters will file approximately 9 notifications.

Estimated Time per Response: 1 hour per notification.

Total Estimated Annual Burden: 9 hours (9 notifications × 1 hour).

General Description of Collection: The Commission has procedures that exporters must follow to notify the Commission of the exporter's intent to export products that are banned or fail to comply with an applicable CPSC safety standard, regulation, or statute. Respondents must comply with the requirements in 16 CFR part 1019 and file a statement with the Commission in accordance with these requirements.

Alberta E. Mills,
Secretary, Consumer Product Safety Commission

[FR Doc. 2020-21841 Filed 10-1-20; 8:45 am]

BILLING CODE 6355-01-P